DEPARTMENT OF ENERGY

National Energy Technology Laboratory; Notice of Availability of a Financial Assistance Solicitation

AGENCY: National Energy Technology Laboratory, Department of Energy.

ACTION: Notice of availability of a financial assistance solicitation.

SUMMARY: Notice is hereby given of the intent to issue Financial Assistance Solicitation No. DE-PS26-04NT15450-0 entitled, “Oil Exploration and Production Program Solicitation.” The primary mission of the Department of Energy (DOE)—National Oil Program, implemented through the National Energy Technology Laboratory (NETL)'s National Petroleum Technology Office (NPTO) in Tulsa, OK, is to conduct oil related research and development activities. The purpose is to expand the knowledge base through which industry can bring additional oil reserves and new technology options into the marketplace in a cost-effective and environmentally acceptable manner. The goal of this Oil Exploration and Production Program Solicitation is to support research that supplements and complements but does not duplicate or displace private and other public research and development efforts. The objective of the solicitation is to select midterm type research projects that will focus on cost effectively improving current technologies.

DATES: The solicitation will be available on the “Industry Interactive Procurement System” (IIPS) webpage located at http://e-center.doe.gov on or about October 30, 2003. Applicants can obtain access to the solicitation from the address above or through DOE/NETL's Web site at http://www.netl.doe.gov/business.

FOR FURTHER INFORMATION CONTACT: Juliana L. Heynes, MS 921-107, U.S. Department of Energy, National Energy Technology Laboratory, P.O. Box 10940, MS 921-107, Pittsburgh, PA 15236, E-mail Address: heynes@netl.doe.gov, Telephone Number: 412-386-4872.

SUPPLEMENTARY INFORMATION: The goals of the Department of Energy's Fossil Energy Oil Program are derived from the National need for increased oil production as a part of the national security, requirements for Federal lands stewardship and increased protection of the environment. The core research program of NETL continues to support these goals through carefully selected projects from similar program solicitations. Approximately two-thirds of all the oil discovered in the United States remains in the ground. This effort will provide further development of technologies to recover the remaining reserves in the domestic arena. Technological advances can also be applied by companies in foreign reserves, increasing global supplies as well. The program supports the National Energy Policy goals to increase domestic oil exploration through continued partnership with public and private entities and to promote enhanced oil recovery from existing wells through new technology. By providing support to the development of improved and new technologies in three specific areas, the results should improve oil recovery and increase hydrocarbon reserves. This will augment the domestic oil supply. Applications submitted to any Area of Interest or technical topic must contain a minimum of 20% cost share. Approximately twelve million dollars ($12,000,000) is expected to be available for new awards under this announcement. It is anticipated that six million dollars ($6,000,000) will be available during Fiscal Year 2004. (Note: The limit on participation by an M&O contractor for an individual project under this solicitation cannot exceed 25% of the total project cost).

This solicitation has three separate Areas of Interest:

Area 1—Drilling Technology for High Speed Downhole Motors

Area 1 is limited to one technical topic. Applications in Area 1 will be for projects designed to develop high-speed downhole motors suitable for drilling with high speed bits in the harsh downhole drilling environment. The Oil Program has a drilling program that is currently focused mainly on microhole drilling and applications. However, the area of high speed bit development is progressing steadily and it was recognized that a suitable downhole motor will be necessary to fully develop the capabilities of the high speed bits in multiple applications. Current long-term research efforts are looking for solutions to drilling in deep wells and hard rock. High speed drilling holds the potential to reduce drilling costs and produce a smaller environmental footprint. The need for a downhole motor to operate with these bits will be required in the near future. It is anticipated these bits and motors will be employed in directional, slimhole and coiled tubing drilled wells. The drilling program will look to enhance this developing area of research.

Area 2—Advanced Diagnostics and Imaging Technology

Area 2 is comprised of three separate technical topics: (A) Subsurface Imaging; (B) Regional Study and Basin Analysis; and ( C ) Reservoir Characterization and Management.

The Advanced Diagnostics and Imaging Systems (ADIS) Program is an integral part of the DOE/FE mission and strategy. ADIS is directed toward cross-cutting interdisciplinary research to develop advanced and innovative technologies applied to the incremental recovery of the estimated 160 billion barrels of existing and undiscovered technically recoverable oil from onshore and offshore waters of the United States (USGS, 1995, MMS, 1996).

Uncertainty concerning the physical and chemical nature of oil reservoirs is one of the most severe technological barriers to increasing the economic oil recovery from existing and undiscovered fields. Oil reservoirs are composed of a wide variety of architectural heterogeneities (i.e., rock facies geometry, diagenetic alterations, fracturing, stratigraphic and structural setting). Porosity, relative permeability, pore and pore throat morphology, capillary forces, miscibility and saturation variations (oil-gas brine plus other displacing fluid/gas compositions, rock-fluid, fluid-gas and fluid-fluid interactions) also contribute to technical recovery barriers. Several of these variables often change between like reservoirs within a single geologic play and change due to temporal and spatial dynamic alterations that occur within a reservoir throughout the exploitation and recovery processes.

The ADIS section of this solicitation supports research designed to quantify the interrelationship of the reservoir rock architecture, fluid-rock, fluid-gas, and fluid-fluid interactions that impact oil productibility from petroleum reservoirs. Research efforts should target geologic formations and associated oil reservoirs within United States basins. Multidisciplinary teaming and active involvement by oil producers and /or service companies, with interests in the application of research results for more efficient recovery of larger volumes of oil from fields within the geologic formations and basin studied, is strongly encouraged. Results of these research and technology developments shall be aggressively transferred to the public and private industry thus allowing for informed decisions related to cost-effective reservoir management and exploitation of like oil reservoirs within the productive formations studied.

Area 3—Reservoir Efficiency Processes

Area 3 is comprised of six separate technical topics: (A) Chemical Flooding; (B) Microbial Flooding; ( C ) Heavy Oil Recovery; (D) Novel Processes; (E) Reservoir Simulation; and (F) Gas Flooding.

Fossil fuels will likely remain the principal energy sources for most of the world, including the United States, well into the middle of the century. The program shall expand the knowledge base which, with industry, can bring efficient, economically competitive, and environmentally acceptable new fossil energy resources and technology options into the marketplace and improve the United States national security by reducing dependence on imported oil. As an integral part of the Fossil Energy mission and strategy, Production Research is directed toward the development of advanced and innovative technologies for recovering oil from large, currently unrecoverable petroleum resources.

As an integral part of the Fossil Energy mission and strategy, the extraction research of oil is directed toward the development of advanced and innovative technologies for recovering oil from large, currently unrecoverable, petroleum resources. Primary and secondary recovery operations have been utilized for many years to extract oil from reservoirs.

With continually diminishing United States crude production and increasing dependency on foreign supplies, there is a need to develop oil production from these domestic oil resources. Advanced Recovery Concepts will play a significant role in the exploitation of these domestic resources. New techniques to overcome the problems associated with advanced recovery are needed in order to meet the energy demands of the immediate future. The importance of increasing the petroleum reserves of the United States through the production of oil left in petroleum reservoirs after conventional recovery techniques are used is well known and well documented.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on October 28, 2003.
Dale A. Siciliano,
Director, Acquisition and Assistance Division.

[FR Doc. 03-27827 Filed 11-4-03; 8:45 am]

BILLING CODE 6450-01-P